NATIONAL SCIENCE FOUNDATION

Notice of permit applications received under the Antarctic Conservation Act of 1978 (Pub. L. 95-541)

AGENCY: National Science Foundation.

ACTION: Notice of permit applications received under the Antarctic Conservation Act of 1978, Public Law 95-541.

SUMMARY: The National Science Foundation (NSF) is required to publish a notice of permit applications received to conduct activities regulated under the Antarctic Conservation Act of 1978. NSF has published regulations under the Antarctic Conservation Act at Title 45 Part 670 of the Code of Federal Regulations. This is the required notice of permit applications received.

DATES: Interested parties are invited to submit written data, comments, or views with respect to this permit application by September 23, 2013. This application may be inspected by interested parties at the Permit Office, address below.

ADDRESSES: Comments should be addressed to Permit Office, Room 755, Division of Polar Programs, National Science Foundation, 4201 Wilson Boulevard, Arlington, Virginia 22230.

FOR FURTHER INFORMATION CONTACT: Adrian Dahood, ACA Permit Officer, at the above address or ACApermits@nsf.gov or (703) 292-7149.

SUPPLEMENTARY INFORMATION: The National Science Foundation, as directed by the Antarctic Conservation Act of 1978 (Pub. L. 95-541), as amended by the Antarctic Science, Tourism and Conservation Act of 1996, has developed regulations for the establishment of a permit system for various activities in Antarctica and designation of certain animals and certain geographic areas a requiring special protection. The regulations establish such a permit system to designate Antarctic Specially Protected Areas.

Application Details

1. Applicant

Jennifer Martin, Brooklyn, New York.

Permit Application: 2014-008.

Activity for Which Permit Is Requested: ASPA Entry; The applicant seeks permission to enter several McMurdo Sound Area ASPAs to observe the natural environment, scientists working in the field and the historic huts in order to gain inspiration and insight for a poetry collection. The applicant will record her observations using pen and paper, small video camera, small still-camera, and laptop or tablet computer.

Location: ASPA 121 Cape Royds; ASPA 157 Backdoor Bay; ASPA 155 Cape Evans; ASPA 158 Discovery Hut; ASPA 131 Canada Glacier; ASPA 172 Blood Falls.

Dates: November 7, 2013 to December 31, 2013.

Nadene G. Kennedy,
Polar Coordination Specialist, Division of Polar Programs.

[FR Doc. 2013-20473 Filed 8-21-13; 8:45 am]

BILLING CODE 7555-01-P